NUCLEAR REGULATORY COMMISSION

[NRC-2009-045]

Biweekly Notice Applications and Amendments to Facility Operating Licenses Involving No Significant Hazards Considerations

I. Background

Pursuant to section 189a. (2) of the Atomic Energy Act of 1954, as amended (the Act), the U.S. Nuclear Regulatory Commission (the Commission or NRC staff) is publishing this regular biweekly notice. The Act requires the Commission publish notice of any amendments issued, or proposed to be issued and grants the Commission the authority to issue and make immediately effective any amendment to an operating license upon a determination by the Commission that such amendment involves no significant hazards consideration, notwithstanding the pendency before the Commission of a request for a hearing from any person.

This biweekly notice includes all notices of amendments issued, or proposed to be issued from January 14, 2009 to January 28, 2009. The last biweekly notice was published on January 27, 2009 (74 FR 4767).

Notice of Consideration of Issuance of Amendments to Facility Operating Licenses, Proposed No Significant Hazards Consideration Determination, and Opportunity for a Hearing

The Commission has made a proposed determination that the following amendment requests involve no significant hazards consideration. Under the Commission's regulations in 10 CFR 50.92, this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Written comments may be submitted by mail to the Chief, Rulemaking, Directives and Editing Branch, TWB-05-B01M, Division of Administrative Services, Office of Administration, U.S. Nuclear Regulatory Commission, Washington, DC 20555-0001, and should cite the publication date and page number of this Federal Register notice. Copies of written comments received may be examined at the Commission's Public Document Room (PDR), located at One White Flint North, Public File Area O1F21, 11555 Rockville Pike (first floor), Rockville, Maryland.

Within 60 days after the date of publication of this notice, any person(s) whose interest may be affected by this action may file a request for a hearing and a petition to intervene with respect to issuance of the amendment to the subject facility operating license. Requests for a hearing and a petition for leave to intervene shall be filed in accordance with the Commission's “Rules of Practice for Domestic Licensing Proceedings” in 10 CFR Part 2. Interested person(s) should consult a current copy of 10 CFR 2.309, which is available at the Commission's PDR, located at One White Flint North, Public File Area 01F21, 11555 Rockville Pike (first floor), Rockville, Maryland. Publicly available records will be accessible from the Agencywide Documents Access and Management System's (ADAMS) Public Electronic Reading Room on the Internet at the NRC Web site, http://www.nrc.gov/reading-rm/doc-collections/cfr/. If a request for a hearing or petition for leave to intervene is filed within 60 days, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also set forth the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner/requestor intends to rely in proving the contention at the hearing. The petitioner/requestor must also provide references to those specific sources and documents of which the petitioner is aware and on which the petitioner/requestor intends to rely to establish those facts or expert opinion. The petition must include sufficient information to show that a genuine dispute exists with the applicant on a material issue of law or fact. Contentions shall be limited to matters within the scope of the amendment under consideration. The contention must be one which, if proven, would entitle the petitioner/requestor to relief. A petitioner/requestor who fails to satisfy these requirements with respect to at least one contention will not be permitted to participate as a party.

Those permitted to intervene become parties to the proceeding, subject to any limitations in the order granting leave to intervene, and have the opportunity to participate fully in the conduct of the hearing.

If a hearing is requested, and the Commission has not made a final determination on the issue of no significant hazards consideration, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, any hearing held would take place before the issuance of any amendment.

All documents filed in NRC adjudicatory proceedings, including a request for hearing, a petition for leave to intervene, any motion or other document filed in the proceeding prior to the submission of a request for hearing or petition to intervene, and documents filed by interested governmental entities participating under 10 CFR 2.315(c), must be filed in accordance with the NRC E-Filing rule, which the NRC promulgated in August 28, 2007 (72 FR 49139). The E-Filing process requires participants to submit and serve all adjudicatory documents over the internet or in some cases to mail copies on electronic storage media. Participants may not submit paper copies of their filings unless they seek a waiver in accordance with the procedures described below.

To comply with the procedural requirements of E-Filing, at least five (5) days prior to the filing deadline, the petitioner/requestor must contact the Office of the Secretary by e-mail at hearingdocket@nrc.gov, or by calling (301) 415-1677, to request (1) a digital ID certificate, which allows the participant (or its counsel or representative) to digitally sign documents and access the E-Submittal server for any proceeding in which it is participating; and/or (2) creation of an electronic docket for the proceeding (even in instances in which the petitioner/requestor (or its counsel or representative) already holds an NRC-issued digital ID certificate). Each petitioner/requestor will need to download the Workplace Forms Viewer™ to access the Electronic Information Exchange (EIE), a component of the E-Filing system. The Workplace Forms Viewer™ is free and is available at http://www.nrc.gov/site-help/e-submittals/install-viewer.html. Information about applying for a digital ID certificate is available on NRC's public Web site at http://www.nrc.gov/site-help/e-submittals/apply-certificates.html.

Once a petitioner/requestor has obtained a digital ID certificate, had a docket created, and downloaded the EIE viewer, it can then submit a request for hearing or petition for leave to intervene. Submissions should be in Portable Document Format (PDF) in accordance with NRC guidance available on the NRC public Web site at http://www.nrc.gov/site-help/e-submittals.html. A filing is considered complete at the time the filer submits its documents through EIE. To be timely, an electronic filing must be submitted to the EIE system no later than 11:59 p.m. Eastern Time on the due date. Upon receipt of a transmission, the E-Filing system time-stamps the document and sends the submitter an e-mail notice confirming receipt of the document. The EIE system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically may seek assistance through the “Contact Us” link located on the NRC Web site at http://www.nrc.gov/site-help/e-submittals.html or by calling the NRC electronic filing Help Desk, which is available between 8 a.m. and 8 p.m., Eastern Time, Monday through Friday. The help electronic filing Help Desk can be contacted by telephone at 1-866-672-7640 or by e-mail at MSHD.Resource@nrc.gov.

Participants who believe that they have a good cause for not submitting documents electronically must file a motion, in accordance with 10 CFR 2.302(g), with their initial paper filing requesting authorization to continue to submit documents in paper format. Such filings must be submitted by: (1) First-class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville, Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service.

Non-timely requests and/or petitions and contentions will not be entertained absent a determination by the Commission, the presiding officer, or the Atomic Safety and Licensing Board that the petition and/or request should be granted and/or the contentions should be admitted, based on a balancing of the factors specified in 10 CFR 2.309(c)(1)(i)-(viii).

Documents submitted in adjudicatory proceedings will appear in NRC's electronic hearing docket which is available to the public at http://ehd.nrc.gov/EHD_Proceeding/home.asp, unless excluded pursuant to an order of the Commission, an Atomic Safety and Licensing Board, or a Presiding Officer. Participants are requested not to include personal privacy information, such as social security numbers, home addresses, or home phone numbers in their filings. With respect to copyrighted works, except for limited excerpts that serve the purpose of the adjudicatory filings and would constitute a Fair Use application, participants are requested not to include copyrighted materials in their submission.

For further details with respect to this amendment action, see the application for amendment which is available for public inspection at the Commission's PDR, located at One White Flint North, Public File Area 01F21, 11555 Rockville Pike (first floor), Rockville, Maryland. Publicly available records will be accessible from the ADAMS Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr@nrc.gov.

Carolina Power & Light Company, Docket Nos. 50-325 and 50-324, Brunswick Steam Electric Plant, Units 1 and 2, Brunswick County, North Carolina

Date of amendments request: November 24, 2008.

Description of amendments request: The proposed amendments would delete Technical Specification (TS) 3.6.3.2, “Containment Atmosphere Dilution (CAD) System,” and the associated TS Bases that will result in modifications to containment combustible gas control TS requirements as permitted by 10 CFR 50.44. This change is consistent with NRC-approved Revision 2 to Technical Specification Task Force (TSTF) Improved Standard Technical Specification Change Traveler, TSTF-478, “BWR [Boiling Water Reactor] Technical Specification Changes that Implement the Revised Rule for Combustible Gas Control.” TSTF-478, Revision 2 also makes TS and associated TS Bases changes for the TS section on Drywell Cooling System Fans. Since Brunswick Steam Electric Plant (BSEP), Units 1 and 2 TSs do not have this TS section, these changes are not needed. The availability of TSTF-478 was announced in the Federal Register on November 21, 2007 (72 FR 65610), as part of the consolidated line item improvement process (CLIIP). The licensee affirmed the applicability of the no significant hazard consideration (NSHC) determination in its application dated November 24, 2008.

Basis for proposed no significant hazards consideration determination: As required by 10 CFR 50.91(a), the analysis of the issue of NDHD that was adopted by the licensee is presented below:

Criterion 1: The proposed change does not involve a significant increase in the probability or consequences of an accident previously evaluated.

The Containment Atmosphere Dilution (CAD) system is not an initiator to any accident previously evaluated. The TS Required Actions taken when a drywell cooling system fan is inoperable are not initiators to any accident previously evaluated. As a result, the probability of any accident previously evaluated is not significantly increased.

The revised 10 CFR 50.44 no longer defines a design basis accident (DBA) hydrogen release and the Commission has subsequently found that the DBA loss of coolant accident (LOCA) hydrogen release is not risk significant. In addition, CAD has been determined to be ineffective at mitigating hydrogen releases from the more risk significant beyond design basis accidents that could threaten containment integrity. Therefore, elimination of the CAD system will not significantly increase the consequences of any accident previously evaluated. The consequences of an accident while relying on the revised TS Required Actions for drywell cooling system fans are no different than the consequences of the same accidents under the current Required Actions. As a result, the consequences of any accident previously evaluated is [are] not significantly increased.

Therefore, the proposed change does not involve a significant increase in the probability or consequences of an accident previously evaluated.

Criterion 2: The proposed change does not create the possibility of a new or different kind of accident from any accident previously evaluated.

No new or different accidents result from utilizing the proposed change. The proposed change permits physical alteration of the plant involving removal of the CAD system. The CAD system is not an accident precursor, nor does its existence or elimination have any adverse impact on the pre-accident state of the reactor core or post-accident confinement of radionuclides within the containment building from any design basis event. The changes to the TS do not alter assumptions made in the safety analysis, but reflect changes to the design requirements allowed under the revised 10 CFR 50.44. The proposed change is consistent with the revised safety analysis assumptions.

Therefore, the proposed change does not create the possibility of a new or different kind of accident from any previously evaluated.

Criterion 3: The proposed change does not involve a significant reduction in a margin of safety.

The Commission has determined that the DBA LOCA hydrogen release is not risk significant, therefore is not required to be analyzed in a facility accident analysis. The proposed change reflects this new position and, due to remaining plant equipment, instrumentation, procedures, and programs that provide effective mitigation of and recovery from reactor accidents, including postulated beyond design basis events, does not result in a significant reduction in a margin of safety.

Therefore, the proposed change does not involve a significant reduction in a margin of safety.

Based on the above, the NRC concludes that the proposed change presents no significant hazards consideration under the standards set forth in 10 CFR 50.92(c), and, accordingly, a finding of “no significant hazards consideration” is justified. Therefore, the NRC staff proposes to determine that the amendment request involves no significant hazards consideration.

Energy Northwest, Docket No. 50-397, Columbia Generating Station, Benton County, Washington

Date of amendment request: January 14, 2009.

Description of amendment request: The proposed amendment would: (1) Delete Technical Specification (TS) surveillance requirement (SR) 3.1.3.2 and revise SR 3.1.3.3, (2) remove reference to SR 3.1.3.2 from Required Action A.2 of TS 3.1.3, “Control Rod OPERABILITY,” (3) renumber SRs 3.1.3.3 through 3.1.3.5 to reflect the deletion of SR 3.1.3.2, and (4) revise Example 1.4-3 in Section 1.4, “Frequency,” to clarify the applicability of the 1.25 surveillance test interval extension.

The NRC staff issued a notice of opportunity to comment in the Federal Register on August 16, 2007 (72 FR 46103), on possible amendments to revise the plant-specific TSs, modify TS control rod SR testing frequency, clarify TS control insertion requirements, and clarify SR frequency discussions, including a model safety evaluation and model no significant hazards consideration (NSHC) determination, using the consolidated line item improvement process. The NRC staff subsequently issued a notice of availability of the models for referencing in license amendment applications in the Federal Register on November 13, 2007 (72 FR 63935). The licensee affirmed the applicability of the model NSHC determination in its application dated January 14, 2009. The licensee is not proposing to clarify the requirement to fully insert all insertable rods for the limiting condition for operation (LCO) in TS 3.3.1.2, Required Action E.2, “Source Range Monitor (SRM) Instrumentation,” because the clarification is already included in the Columbia Generating Station TS.

Basis for proposed no significant hazards consideration determination: As required by 10 CFR 50.91(a), an analysis of the issue of NSHC adopted by the licensee is presented below:

Criterion 1—The Proposed Change Does Not Involve a Significant Increase in the Probability or Consequences of an Accident Previously Evaluated

The proposed change generically implements TSTF-475, Revision 1, “Control Rod Notch Testing Frequency and SRM [Source Range Monitor] Insert Control Rod Action.” TSTF-475, Revision 1 modifies NUREG-1433 (BWR/4) and NUREG-1434 (BWR/6) STS. The changes: (1) Revise TS testing frequency for surveillance requirement (SR) 3.1.3.2 in TS 3.1.3, “Control Rod OPERABILITY,” (2) clarify the requirement to fully insert all insertable control rods for the limiting condition for operation (LCO) in TS 3.3.1.2, Required Action E.2, “Source Range Monitoring Instrumentation” (NUREG-1434 only), and (3) revise Example 1.4-3 in Section 1.4 “Frequency” to clarify the applicability of the 1.25 surveillance test interval extension. The consequences of an accident after adopting TSTF-475, Revision 1 are no different than the consequences of an accident prior to adoption. Therefore, this change does not involve a significant increase in the probability or consequences of an accident previously evaluated.

Criterion 2—The Proposed Change Does Not Create the Possibility of a New or Different Kind of Accident from any Accident Previously Evaluated

The proposed change does not involve a physical alteration of the plant (no new or different type of equipment will be installed) or a change in the methods governing normal plant operation. The proposed change will not introduce new failure modes or effects and will not, in the absence of other unrelated failures, lead to an accident whose consequences exceed the consequences of accidents previously analyzed. Thus, this change does not create the possibility of a new or different kind of accident from any accident previously evaluated.

Criterion 3—The Proposed Change Does Not Involve a Significant Reduction in the Margin of Safety

TSTF-475, Revision 1 will: (1) Revise the TS SR 3.1.3.2 frequency in TS 3.1.3, “Control Rod OPERABILITY,” (2) clarify the requirement to fully insert all insertable control rods for the limiting condition for operation (LCO) in TS 3.3.1.2, “Source Range Monitoring Instrumentation,” and (3) revise Example 1.4-3 in Section 1.4 “Frequency” to clarify the applicability of the 1.25 surveillance test interval extension. The GE [General Electric] Nuclear Energy Report, “CRD [Control Rod Drive] Notching Surveillance Testing for Limerick Generating Station,” dated November 2006, concludes that extending the control rod notch test interval from weekly to monthly is not expected to impact the reliability of the scram system and that the analysis supports the decision to change the surveillance frequency. Therefore, the proposed changes in TSTF-475, Revision 1 are acceptable and do not involve a significant reduction in a margin of safety.

The NRC staff has reviewed the analysis adopted by the licensee and, based upon this review, it appears that the standards of 10 CFR 50.92(c) are satisfied. Therefore, the NRC staff proposes to determine that the amendment request involves no significant hazards consideration.

Attorney for licensee: William A. Horin, Esq., Winston & Strawn, 1700 K Street, NW., Washington, DC 20006-3817.

NRC Branch Chief: Michael T. Markley.

Florida Power and Light Company, et al., Docket Nos. 50-335 and 50-389, St. Lucie Plant, Unit Nos. 1 and 2, St. Lucie County, Florida

Date of amendment request: June 30, 2008.

Description of amendment request: The proposed amendment would modify Technical Specification requirements related to Refueling Water Tank (RWT) minimum contained volume of borated water. The proposed changes will make permanent the current administrative RWT minimum level of 32.5 feet for both units.

Basis for proposed no significant hazards consideration determination: As required by 10 CFR 50.91(a), the licensee has provided its analysis of the issue of no significant hazards consideration, which is presented below:

(1) Operation of the facility in accordance with the proposed amendment would not involve a significant increase in the probability or consequences of an accident previously evaluated.

The proposed changes do not impact the initiation or probability of occurrence of any accident.

The proposed changes will not impact assumptions or conditions previously used in the radiological consequence evaluations nor affect mitigation of these consequences due to an accident described in the UFSAR [Updated Final Safety Analysis Report]. Also, the proposed changes will not impact a plant system such that previously analyzed structures, systems, and components (SSCs) could be more likely to fail. The SSCs will continue to perform their intended safety functions. The initiating conditions and assumptions for accidents described in the UFSAR remain as analyzed. The proposed changes do not adversely affect the protective and mitigative capabilities of the plant. The containment sump pH calculations are not adversely impacted by the proposed change to the RWT volume. The offsite and control room doses will continue to meet the requirements of 10 CFR 100 and 10 CFR 50 Appendix A, Design Criterion 19.

Based on the above evaluation, it is reasonable to conclude that the proposed amendment does not significantly increase the probability or consequences of accidents previously evaluated.

(2) Operation of the facility in accordance with the proposed amendment would not create the possibility of a new or different kind of accident from any accident previously evaluated.

No new or different components or plant physical changes are involved with the proposed change. The currently installed equipment will not be operated in a new or different manner. No new or different system interactions are created, and no new processes are introduced. The proposed changes will not introduce new failure mechanisms, malfunctions, or accident initiators not already considered in the design and licensing bases. The possibility of a new or different malfunction of safety-related equipment is not created. No new accident scenarios, transient precursors, or limiting single failures are introduced as a result of these changes. There will be no adverse effects or challenges imposed on any safety-related system as a result of the proposed changes.

Therefore, the proposed change does not create the possibility of a new or different accident from any accident previously evaluated.

(3) Operation of the facility in accordance with the proposed amendment would not involve a significant reduction in a margin of safety.

The proposed changes raising the minimum RWT contained volume of borated water do not affect the manner in which safety limits, limiting safety system settings or limiting conditions for operation are determined. The change enhances the water available for recirculation therefore, maintaining and enhancing the margin of safety.

The safety analyses acceptance criteria are not affected by these changes. The proposed changes will not result in plant operation outside of the design basis.

Therefore, operation in accordance with the proposed amendment would not involve a significant reduction in a margin of safety.

The NRC staff has reviewed the licensee's analysis and, based on this review, it appears that the three standards of 50.92(c) are satisfied. Therefore, the NRC staff proposes to determine that the amendment request involves no significant hazards consideration.

Attorney for licensee: M.S. Ross, Attorney, Florida Power & Light, P.O. Box 14000, Juno Beach, Florida 33408-0420.

NRC Branch Chief: Thomas H. Boyce.

Florida Power and Light Company, et al., Docket Nos. 50-335 and 50-389, St. Lucie Plant, Unit Nos. 1 and 2, St. Lucie County, Florida

Date of amendment request: July 10, 2008.

Description of amendment request: The proposed amendment would modify Technical Specification (TS) requirements related to diesel fuel oil testing consistent with Nuclear Regulatory Commission approved Industry/Technical Specification Task Force (TSTF) TSTF-374, “Revision to TS 5.5.13 and Associated TS Bases for Diesel Fuel Oil, “ Revision 0. This amendment would revise TSs by relocating references to specific American Society for Testing and Materials (ASTM) standards for fuel oil testing to licensee-controlled documents and adding alternate criteria to the “clear and bright” acceptance test for new fuel oil.

Basis for proposed no significant hazards consideration determination: As required by 10 CFR 50.91(a), an analysis of the issue of no significant hazards consideration is presented below:

1. Does the proposed change involve a significant increase in the probability or consequences of any accident previously evaluated?

Response: No.

The proposed changes relocate the specific ASTM standard references from the Administrative Controls Section of TS to a licensee-controlled document. Requirements to perform testing in accordance with applicable ASTM standards are retained in the TS as are requirements to perform surveillances of both new and stored diesel fuel oil. Future changes to the licensee controlled document will be evaluated pursuant to the requirements of 10 CFR 50.59, “Changes, tests and experiments,” to ensure that such changes do not result in more than a minimal increase in the probability or consequences of an accident previously evaluated. In addition, the “clear and bright” test used to establish the acceptability of new fuel oil for use prior to addition to storage tanks has been expanded to recognize more rigorous testing of water and sediment content. Relocating the specific ASTM standard references from the TS to a licensee-controlled document and allowing a water and sediment content test to be performed to establish the acceptability of new fuel oil will not affect nor degrade the ability of the emergency diesel generators (DGs) to perform their specified safety function. Fuel oil quality will continue to meet ASTM requirements.

The proposed changes do not adversely affect accident initiators or precursors nor alter the design assumptions, conditions, and configuration of the facility or the manner in which the plant is operated and maintained. The proposed changes do not adversely affect the ability of structures, systems, and components (SSCs) to perform their intended safety function to mitigate the consequences of an initiating event within the assumed acceptance limits. The proposed changes do not affect the source term, containment isolation, or radiological release assumptions used in evaluating the radiological consequences of any accident previously evaluated. Further, the proposed changes do not increase the types and amounts of radioactive effluent that may be released offsite, nor significantly increase individual or cumulative occupational/public radiation exposures.

Therefore, the changes do not involve a significant increase in the probability or consequences of any accident previously evaluated.

2. Does the proposed change create the possibility of a new or different kind of accident from any accident previously evaluated?

Response: No.

The proposed changes relocate the specific ASTM standard references from the Administrative Controls Section of TS to a licensee-controlled document. In addition, the “clear and bright” test used to establish the acceptability of new fuel oil for use prior to addition to storage tanks has been expanded to allow a water and sediment content test to be performed to establish the acceptability of new fuel oil. The changes do not involve a physical alteration of the plant (i.e., no new or different type of equipment will be installed) or a change in the methods governing normal plant operation. The requirements retained in the TS continue to require testing of the diesel fuel oil to ensure the proper functioning of the DGs.

Therefore, the changes do not create the possibility of a new or different kind of accident from any accident previously evaluated.

3. Does the proposed change involve a significant reduction in a margin of safety?

Response: No.

The proposed changes relocate the specific ASTM standard references from the Administrative Controls Section of TS to a licensee-controlled document. Instituting the proposed changes will continue to ensure the use of applicable ASTM standards to evaluate the quality of both new and stored fuel oil designated for use in the emergency DGs. Changes to the licensee-controlled document are performed in accordance with the provisions of 10 CFR 50.59. This approach provides an effective level of regulatory control and ensures that diesel fuel oil testing is conducted such that there is no significant reduction in a margin of safety.

The “clear and bright” test used to establish the acceptability of new fuel oil for use prior to addition to storage tanks has been expanded to allow a water and sediment content test to be performed to establish the acceptability of new fuel oil. The margin of safety provided by the DGs is unaffected by the proposed changes since there continue to be TS requirements to ensure fuel oil is of the appropriate quality for emergency DG use. The proposed changes provide the flexibility needed to improve fuel oil sampling and analysis methodologies while maintaining sufficient controls to preserve the current margins of safety.

Based upon the reasoning presented above, the NRC staff proposes to determine that the amendment request involves no significant hazards consideration.

Attorney for licensee: M.S. Ross, Attorney, Florida Power & Light, P.O. Box 14000, Juno Beach, Florida 33408-0420.

NRC Branch Chief: Thomas H. Boyce.

Omaha Public Power District, Docket No. 50-285, Fort Calhoun Station, Unit No. 1, Washington County, Nebraska

Date of amendment request: July 31, 2008.

Description of amendment request: The proposed changes would modify the transformer allowed outage time (AOT) in the Fort Calhoun Station Technical Specifications (TS) Sections 2.7(2)a., 2.7(2)b., and 2.7(2)c., and delete the associated 2.7(2) special reporting requirements in TS 5.9.3j.

The proposed changes would revise TS 2.7(2)a. to allow both auxiliary power transformers, T1A-1 and T1A-2, to be inoperable for a period of 72 hours, consistent with NUREG-1432, Standard Technical Specifications for Combustion Engineering Plants, and would revise TS 2.7(2)b. and c. to impose a limit of 7 days for plant operation in the event that house service transformers T1A-3 and/or T1A-4 become inoperable.

Basis for proposed no significant hazards consideration determination: As required by 10 CFR 50.91(a), the licensee has provided its analysis of the issue of no significant hazards consideration, which is presented below:

1. Does the proposed amendment involve a significant increase in the probability or consequences of an accident previously evaluated?

Response: No.

The proposed change to remove the allowance for unlimited plant operation in the event of a degraded or inoperable 161 kilovolt (KV) source does not adversely impact the probability of an accident previously evaluated. Because the change imposes a more restrictive allowed outage time (AOT) than that which currently exists, there would be a reduced probability that the plant would operate in the future for an extended period without the 161 KV circuit operable. Further, analyses for abnormal operational occurrences (AOOs) and design basis accidents (DBAs) assume that all offsite power circuits are lost when it is conservative to make such an assumption. The successful mitigation of those accident scenarios is based on the assumption that diesel generators are the only source of alternating current (AC) power supplying safeguards loads. The proposed change does not affect the operability requirements for the emergency diesel generators (EDGs) and therefore does not impact the consequences of an analyzed accident.

The proposed change to remove the requirement to verify diesel generator operability by ensuring that relevant surveillances have been performed in the event of a degraded or inoperable 161 KV source has no impact on the probability of an accident since diesel generators are not initiators for any analyzed event. The consequences of an accident are not impacted because diesel generator operability is controlled by other portions of Technical Specification (TS) 2.7, which ensures that required surveillances are performed. Appropriate limiting conditions for operation (LCOs) are entered in the event that EDG surveillance criteria are not met.

The proposed change to the allowed outage time for inoperability of auxiliary transformers (powered from the 345 KV offsite source) from 24 to 72 hours does not significantly increase the probability of an accident since the only impact of not having auxiliary transformers is that there would be no offsite source to backup power to plant buses in the event that the preferred source of offsite power is lost (i.e., the 161 KV source). Historical experience with the reliability of the 161 KV has shown the power supply has been highly reliable. The likelihood of losing 161 KV power is not significantly different over a 72-hour period from the likelihood over a 24-hour period. The consequences of an analyzed event does not change allowing the 345 KV source to be inoperable for 72 hours as opposed to 24 hours since the 345 KV source is not credited as a mitigating power source.

The administrative changes to add “T1A” to the house service transformer T1A-2 equipment number in TS 2.7(2)a. and add a period to the text in TS 5.9.3i. are being made for consistency and clarification. The special reporting requirement is deleted from TS 2.7(2)b., 2.7(2)c., and 5.9.3j., as there is no method for the NRC to provide the concurrence required via the special reporting requirements in the current TS. The administrative change to TS 2.7(2)c. clarifies that the telephone notification will be made to the NRC Operations Center within 4 hours after inoperability of both transformers.

Therefore, the proposed change does not involve a significant increase in the probability or consequences of an accident previously evaluated.

2. Does the proposed amendment create the possibility of a new or different kind of accident from any accident previously evaluated?

Response: No.

The proposed change to remove the allowance for unlimited plant operation in the event of a degraded or inoperable 161 KV source does not create the possibility of a new or different kind of accident since the design function of the affected equipment is not changed. No new interactions between systems or components are created. No new failure mechanisms of associated systems will exist. The consequence of losing offsite power sources during plant operation is precisely the same with the proposed change as it was previously. In fact, the proposed change is more restrictive in terms of operating with degraded power sources than is the current requirement.

The proposed change to remove the requirement to verify diesel generator operability by ensuring that relevant surveillances have been performed in the event of a degraded or inoperable 161 KV source will not create a possibility for a new or different type of accident since the operability requirements for EDGs will be maintained in accordance with surveillance and operability requirements which exist elsewhere in TS 2.7. The allowed outage times proposed for degraded or inoperable 161 KV circuits are the same as those that currently exist for EDG inoperability. If an EDG were inoperable coincident with a loss of the 161 KV offsite source, the remaining EDG would still be operable for providing power to safeguards loads in the event of an accident, consistent with current analytical assumptions. No new failure mechanisms would be created.

The proposed change to the AOT for inoperability of auxiliary transformers (powered from the 345 KV offsite source) from 24 to 72 hours does not create the possibility of a new or different kind of accident since no new design function is established for the power supply already assumed to be unavailable. The 345 KV source of power is not credited in any design basis event. No new failure mechanism is created by increasing the allowed outage time from 24 to 72 hours.

Therefore, the proposed change does not create the possibility of a new or different kind of accident from any previously evaluated.

3. Does the proposed amendment involve a significant reduction in a margin of safety?

Response: No.

The proposed change to remove the allowance for unlimited plant operation in the event of a degraded or inoperable 161 KV source does not adversely impact any margins of safety since no design basis function of the affected systems are changed. In the future, the length of time that the preferred source of offsite power is inoperable could be reduced which would potentially enhance plant safety margins by increasing the likelihood that diverse sources of power are available during a design basis event. Furthermore, sources of power credited for design basis events are not affected by this change.

The proposed change to remove the requirement to verify diesel generator operability by ensuring that relevant surveillances have been performed in the event of a degraded or inoperable 161 KV source will not adversely impact margins of safety since the requirement to verify EDG operability exists in TS 3.7. Further, the proposed change does not change the design function of any equipment assumed to operate in the event of an accident.

The proposed change to the AOT time for inoperability of auxiliary transformers (powered from the 345 KV offsite source) from 24 to 72 hours does not adversely impact any margins of safety since the offsite power source associated with the 345 KV system is not credited in any design basis event. In any case, no design functions of plant equipment will be modified by this proposed change.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: David A. Repka, Esq., Winston & Strawn, 1700 K Street, NW., Washington, DC 20006-3817.

NRC Branch Chief: Michael T. Markley.

Southern Nuclear Operating Company, Inc., Georgia Power Company, Oglethorpe Power Corporation, Municipal Electric Authority of Georgia, City of Dalton, Georgia, Docket Nos. 50-321 and 50-366, Edwin I. Hatch Nuclear Plant, Units 1 and 2, Appling County, Georgia

Date of amendment request: July 15, 2008.

Description of amendment request: The proposed amendments would revise the TS 5.5.7 Ventilation Filter Testing Program to eliminate the requirement to test the power output of the Standby Gas Treatment System's (SGTS) electric heater and to raise the testing requirement for the relative humidity of the charcoal adsorbed air stream. Also, a surveillance requirement is being revised to eliminate reference to the heater and to shorten the required SGTS run time. Basis for proposed no significant hazards consideration determination: As required by 10 CFR 50.91(a), the licensee has provided its analysis of the issue of no significant hazards consideration, which is presented below:

1. Does the proposed amendment involve a significant increase in the probability or consequences of an accident previously evaluated?

Response: No.

The SGTS ensures that radioactivity leaking into the secondary containment from design basis accidents is treated and filtered before being released to the environment. This TS amendment request does not require or otherwise propose any physical changes to any system intended for the prevention of accidents or intended for the mitigation of accident consequences including the SGTS system. Neither does it involve any changes to the operation or maintenance of the SGTS system, or to any other system designed for the prevention or mitigation of design basis accidents. This proposed TS change involves the elimination of the SGTS electric heater testing requirements and its concomitant increase in the testing criteria for relative humidity (RH). However, the percent penetration through the carbon bed when challenged with methyl iodide during laboratory testing will not change as a result of this amendment. Therefore, the carbon efficiency will not be decreased as a result of this amendment. With respect to the reduction of the run time requirement for SR 3.6.4.3.1, the proposed run time is adequate to ensure proper operation of the SGTS.

For the above reasons, this TS amendment request will not result in a significant increase in the probability of occurrence, or the consequences, of a previously evaluated event.

2. Does the proposed amendment create the possibility of a new or different kind of accident from any accident previously evaluated?

Response: No

This proposed Unit 1 and 2 TS amendment request involves elimination of the testing requirements for the SGTS electric heater. This in turn requires that the testing criteria for the air stream RH be increased from their current value of 70% to 95%. However, no changes are being made to the way the SGTS system, or any other system, is operated or maintained. Changes are being made to how the SGTS will be surveilled, however these changes will not result in the system being operated outside of its design basis. Since no new modes of operation are introduced, the probability of occurrence of an event different from any previously evaluated is not increased.

3. Does the proposed amendment involve a significant reduction in the margin of safety?

Response: No

The requirements for the Unit 1 and 2 SGTS electric heater are being eliminated. Without the benefit of the heater, the laboratory testing criteria for the RH of the air stream are higher and are therefore being changed from 70% to 95%. The requirements on carbon efficiency are not being changed by this TS revision request; the methyl iodide penetration criteria will remain at less than 2.5%. The capability of the SGTS system to holdup the iodine will therefore remain unchanged. The proposed 15 minute run time for the SR 3.6.4.3 will still allow for the adequate verification of the proper operation of the credited SGTS components. For this reason, the margin of safety is not significantly reduced.

Based on the above, Southern Nuclear concludes that the proposed amendment does not involve a significant hazards consideration under the standards set forth in 10 CFR 50.92(c), and accordingly, a finding of “no significant hazards consideration” is justified.

The NRC staff has reviewed the licensee's analysis and, based on this review, it appears that the three standards of 10 CFR 50.92(c) are satisfied. Therefore, the NRC staff proposes to determine that the amendment request involves no significant hazards consideration.

Attorney for licensee: Ernest L. Blake, Jr., Esquire, Shaw, Pittman, Potts and Trowbridge, 2300 N Street, NW., Washington, DC 20037.

NRC Branch Chief: Melanie C. Wong.

Virginia Electric and Power Company, Docket Nos. 50-338 and 50-339, North Anna Power Station, Unit Nos. 1 and 2, Louisa County, Virginia

Date of amendment request: December 17, 2008.

Description of amendment request: The proposed amendments would revise Technical Specifications (TSs) 1.1, “Definitions,” and 3.4.16, “RCS Specific Activity,” and Surveillance Requirements 3.4.16.1 and 3.4.16.3. The proposed changes would replace the current TS 3.4.16 limit on reactor coolant system (RCS) gross specific activity with a new limit on RCS noble gas specific activity. The noble gas specific activity limit would be based on a new dose equivalent Xe-133 definition that would replace the current E Bar average disintegration energy definition. The availability of this TS revision was announced in the Federal Register on March 15, 2007 (72 FR 12217) as part of the consolidated line item improvement process. The licensee affirmed the applicability of the model no significant hazards consideration determination in its application.

Basis for proposed no significant hazards consideration determination: As required by 10 CFR 50.91(a), an analysis of the issue of no significant hazards consideration adopted by the licensee is presented below:

Criterion 1—The Proposed Change Does Not Involve a Significant Increase in the Probability or Consequences of an Accident Previously Evaluated

Reactor coolant specific activity is not an initiator for any accident previously evaluated. The Completion Time when primary coolant gross activity is not within limit is not an initiator for any accident previously evaluated. The current variable limit on primary coolant iodine concentration is not an initiator to any accident previously evaluated. As a result, the proposed change does not significantly increase the probability of an accident. The proposed change will limit primary coolant noble gases to concentrations consistent with the accident analyses. The proposed change to the Completion Time has no impact on the consequences of any design basis accident since the consequences of an accident during the extended Completion Time are the same as the consequences of an accident during the Completion Time. As a result, the consequences of any accident previously evaluated are not significantly increased.

Criterion 2—The Proposed Change Does Not Create the Possibility of a New or Different Kind of Accident from any Accident Previously Evaluated

The proposed change in specific activity limits does not alter any physical part of the plant nor does it affect any plant operating parameter. The change does not create the potential for a new or different kind of accident from any previously calculated.

Criterion 3—The Proposed Change Does Not Involve a Significant Reduction in the Margin of Safety

The proposed change revises the limits on noble gas radioactivity in the primary coolant. The proposed change is consistent with the assumptions in the safety analyses and will ensure the monitored values protect the initial assumptions in the safety analyses.

The Nuclear Regulatory Commission (NRC) staff has reviewed the analysis adopted by the licensee and, based on this review, it appears that the three standards of 10 CFR 50.92(c) are satisfied.

Attorney for licensee: Lillian M. Cuoco, Esq., Senior Counsel, Dominion Resources Services, Inc., 120 Tredegar Street, RS-2, Richmond, VA 23219.

NRC Branch Chief: Melanie C. Wong.

Notice of Issuance of Amendments to Facility Operating Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License, Proposed No Significant Hazards Consideration Determination, and Opportunity for A Hearing in connection with these actions was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items are available for public inspection at the Commission's Public Document Room (PDR), located at One White Flint North, Public File Area 01F21, 11555 Rockville Pike (first floor), Rockville, Maryland. Publicly available records will be accessible from the Agencywide Documents Access and Management Systems (ADAMS) Public Electronic Reading Room on the internet at the NRC Web site, http://www.nrc.gov/reading-rm/adams.html. If you do not have access to ADAMS or if there are problems in accessing the documents located in ADAMS, contact the PDR Reference staff at 1 (800) 397-4209, (301) 415-4737 or by e-mail to pdr@nrc.gov.

Arizona Public Service Company, et al., Docket Nos. STN 50-528, STN 50-529, and STN 50-530, Palo Verde Nuclear Generating Station, Unit Nos. 1, 2, and 3, Maricopa County, Arizona

Date of application for amendment: January 17, 2008, as supplemented by letter dated February 29, 2008.

Brief description of amendment: The amendments modified the Technical Specifications (TSs) to establish more effective and appropriate action, surveillance, and administrative requirements related to ensuring the habitability of the control room envelope (CRE) in accordance with Nuclear Regulatory Commission (NRC)-approved TS Task Force (TSTF) Standard Technical Specification change traveler TSTF-448, Revision 3, “Control Room Habitability.” Specifically, the proposed amendments modified TS 3.7.11, “Control Room Essential Filtration System (CREFS),” and added new TS 5.5.17, “Control Room Envelope Habitability Program,” to TS Administrative Controls Section 5.5, “Programs and Manuals.”

Date of issuance: January 23, 2009.

Effective date: As of the date of issuance and shall be implemented within 180 days from the date of issuance.

Amendment No.: Unit 1—171; Unit 2—171; Unit 3—171.

Facility Operating License Nos. NPF-41, NPF-51, and NPF-74: The amendment revised the Operating Licenses and Technical Specifications.

Date of initial notice in Federal Register: May 6, 2008 (73 FR 25036). The supplemental letter dated February 29, 2008, provided additional information that clarified the application, did not expand the scope of the application as originally noticed, and did not change the staff's original proposed no significant hazards consideration determination as published in the Federal Register. The Commission's related evaluation of the amendments is contained in a Safety Evaluation dated January 23, 2009.

No significant hazards consideration comments received: No.

Calvert Cliffs Nuclear Power Plant, Inc., Docket Nos. 50-317 and 50-318, Calvert Cliffs Nuclear Power Plant, Unit Nos. 1 and 2, Calvert County, Maryland

Date of application for amendments: August 28, 2008.

Brief description of amendments: These amendments revise Technical Specification (TS) Surveillance Requirement 3.7.2.1 by replacing the main steam isolation valve (MSIV) closure time with the phrase “within limits.” The MSIV closure time is relocated to the licensee controlled document that is referenced in the TS Bases. The changes are consistent with the Nuclear Regulatory Commission approved Technical Specification Task Force (TSTF)-491, Revision 2, “Removal of Main Steam and Main Feedwater Valve Isolation Times from Technical Specifications.”

Date of issuance: January 26, 2009.

Effective date: As of the date of issuance to be implemented within 60 days.

Amendment Nos.: 289 and 265.

Renewed Facility Operating License Nos. DPR-53 and DPR-69: Amendments revised the License and Technical Specifications.

Date of initial notice in Federal Register: October 7, 2008 (73 FR 58671). The Commission's related evaluation of these amendments is contained in a Safety Evaluation dated January 26, 2009.

No significant hazards consideration comments received: No.

Duke Energy Carolinas, LLC, et al., Docket Nos. 50-369 and 50-370, McGuire Nuclear Station, Units 1 and 2, Mecklenburg County, North Carolina

Date of application for amendments: December 11, 2007, as supplemented December 18, 2008.

Brief description of amendments: The amendments revised the Technical Specifications sections to allow the bypass test times and Completion Times (CTs) for Limiting Condition for Operation (LCOs) 3.3.1, “Reactor Trip System (RTS) Instrumentation” and 3.3.2, “Engineered Safety Feature Actuation System (ESFAS) Instrumentation.”

The proposed license amendment request (LAR) adopts changes as described in Westinghouse Commercial Atomic Power (WCAP) topical report WCAP-14333-P-A, Revision 1, “Probabilistic Risk Analysis of the Reactor Protection System and Engineered Safety Features Actuation System Test Times and Completion Times,” issued October 1998 and approved by U.S. Nuclear Regulatory Commission (NRC) letter dated July 15, 1998. Implementation of the proposed changes is consistent with Technical Specification Task Force (TSTF) Traveler TSTF-418, Revision 2, “RPS [Reactor Protection System] and ESFAS Test Times and Completion Times (WCAP-14333).” The NRC approved TSTF-418, Revision 2, by letter dated April 2, 2003.

In addition, the proposed LAR adopts changes as described in WCAP-15376-P-A, Revision 1,“Risk-Informed Assessment of the RTS and ESFAS Surveillance Test Intervals and Reactor Trip Breaker Test and Completion Times,” issued March 2003, as approved by NRC letter dated December 20, 2002. Implementation of the proposed changes is consistent with TSTF Traveler # TSTF-411, Revision 1, “Surveillance Test Interval Extension for Components of the Reactor Protection System (WCAP-15376).” The NRC approved TSTF-411, Revision 1, by letter dated August 30, 2002. The licensee also requested additional changes not specifically included in the above topical reports. These changes will be evaluated in a future amendment.

Date of issuance: December 30, 2008.

Effective date: As of the date of issuance and shall be implemented within 90 days from the date of issuance.

Amendment Nos.: 248 and 228.

Facility Operating License Nos. NPF-9 and NPF-17: Amendments revised the licenses and the technical specifications.

Date of initial notice in Federal Register: March 25, 2008 (73 FR 15783). The supplement dated December 18, 2008, provided additional information that clarified the application, did not expand the scope of the application as originally noticed, and did not change the staff's original proposed no significant hazards consideration determination.

The Commission's related evaluation of the amendments is contained in a Safety Evaluation dated December 30, 2008.

No significant hazards consideration comments received: No.

Entergy Operations, Inc., Docket No. 50-313, Arkansas Nuclear One, Unit No. 1, Pope County, Arkansas

Date of amendment request: July 21, 2008, as supplemented by letter dated December 11, 2008.

Brief description of amendment: The amendment revised the Arkansas Nuclear One, Unit No. 1 Technical Specification (TSs) requirements for inoperable snubbers by adding Limiting Condition for Operation (LCO) 3.0.8 and associated Bases, allowing a delay time for entering a supported system TSs, when the inoperability is due solely to an inoperable snubber, if risk is assessed and managed. The changes relating to the addition of LCO 3.0.8 are consistent with Nuclear Regulatory Commission (NRC)-approved Industry/Technical Specification Task Force (TSTF) Standard Technical Specification (STS) change TSTF-372, Revision 4.

Date of issuance: January 28, 2009.

Effective date: As of the date of issuance and shall be implemented within 60 days from the date of issuance.

Amendment No.: 235.

Renewed Facility Operating License No. DPR-51: Amendment revised the Technical Specifications/license.

Date of initial notice in Federal Register: November 4, 2008 (73 FR 65695). The supplemental letter dated December 11, 2008, provided additional information that clarified the application, did not expand the scope of the application as originally noticed, and did not change the staff's original proposed no significant hazards consideration determination as published in the Federal Register.

The Commission's related evaluation of the amendment is contained in a Safety Evaluation dated January 28, 2009.

No significant hazards consideration comments received: No.

Entergy Nuclear Operations, Inc., Docket No. 50-333, James A. FitzPatrick Nuclear Power Plant, Oswego County, New York

Date of application for amendment: January 22, 2008, as supplemented by letters dated August 27 and October 22, 2008.

Brief description of amendment: The amendment modified the Technical Specification (TS) 3.8.3 requirements related to Diesel Fuel Oil, Lube Oil, and Starting Air by replacing the specific fuel oil and lube oil storage values with the corresponding number of days supply. The specific values would be relocated to a licensee-controlled document (i.e., the TS Bases). It also expanded the “clear and bright” test in TS 5.5.10 by allowing a water and sediment test to be performed to establish the acceptability of new fuel oil prior to addition to the storage tanks.

Date of issuance: January 21, 2009.

Effective date: As of the date of issuance, and shall be implemented within 60 days.

Amendment No.: 293.

Facility Operating License No. DPR-59: The amendment revised the License and the Technical Specifications.

Date of initial notice in Federal Register: May 6, 2008 (73 FR 25037). The supplements dated August 27 and October 22, 2008, provided additional information that clarified the application, did not expand the scope of the application as originally noticed, and did not change the NRC staff's original proposed no significant hazards consideration determination as published in the Federal Register.

The Commission's related evaluation of the amendment is contained in a Safety Evaluation dated January 21, 2009.

No significant hazards consideration comments received: No.

Entergy Gulf States Louisiana, LLC, and Entergy Operations, Inc., Docket No. 50-458, River Bend Station, Unit 1, West Feliciana Parish, Louisiana

Date of amendment request: July 28, 2008.

Brief description of amendment: The amendment (1) deleted Technical Specification (TS) surveillance requirement (SR) 3.1.3.2 and revised SR 3.1.3.3; (2) removed the reference to SR 3.1.3.2 from Required Action A.2 of TS 3.1.3, “Control Rod OPERABILITY”; (3) clarified the requirement to fully insert all insertable rods for the limiting condition for operation in TS 3.3.1.2, “Source Range Monitor (SRM) Instrumentation,” Required Action E.2; and (4) revised Example 1.4-3 in Section 1.4, “Frequency,” to clarify the applicability of the 1.25 surveillance test interval extension. The changes are in accordance with NRC-approved TS Task Force (TSTF) traveler TSTF-475, Revision 1, “Control Rod Notch Testing Frequency and SRM Insert Control Rod Action.”

Date of issuance: January 23, 2009.

Effective date: As of the date of issuance and shall be implemented within 60 days from the date of issuance.

Amendment No.: 161.

Facility Operating License No. NPF-47: The amendment revised the Facility Operating License and Technical Specifications.

Date of initial notice in Federal Register: November 4, 2008 (73 FR 65690). The Commission's related evaluation of the amendment is contained in a Safety Evaluation dated January 23, 2009.

No significant hazards consideration comments received: No.

Pacific Gas and Electric Company, Docket Nos. 50-275 and 50-323, Diablo Canyon Nuclear Power Plant, Unit Nos. 1 and 2, San Luis Obispo County, California

Date of application for amendments: February 1, 2008, as supplemented by letter dated August 20, 2008.

Brief description of amendments: The amendments revised Technical Specification (TS) 5.5.16.b, “Containment Leakage Rate Testing Program,” to specify a lower peak calculated containment internal pressure following a large-break loss-of-coolant accident and the containment design pressure at the Diablo Canyon Power Plant, Units 1 and 2. By letter dated August 20, 2008, the licensee withdrew its request to use the guidance in American National Standards Institute/American National Standards (ANSI/ANS) 56.8-2002, “Containment System Leakage Testing,” in lieu of the 1994 Edition.

Date of issuance: January 15, 2009.

Effective date: As of its date of issuance and shall be implemented within 120 days from the date of issuance.

Amendment Nos.: Unit 1—203; Unit 2—204.

Facility Operating License Nos. DPR-80 and DPR-82: The amendments revised the Facility Operating Licenses and Technical Specifications.

Date of initial notice in Federal Register: March 25, 2008 (73 FR 15787). The supplemental letter dated August 20, 2008, provided additional information that clarified the application, did not expand the scope of the application as originally noticed, and did not change the staff's original proposed no significant hazards consideration determination as published in the Federal Register.

The Commission's related evaluation of the amendments is contained in a Safety Evaluation dated January 15, 2009.

No significant hazards consideration comments received: No.

Southern Nuclear Operating Company, Inc., Docket Nos. 50-348 and 50-364, Joseph M. Farley Nuclear Plant, Units 1 and 2, Houston County, Alabama

Date of amendment request: December 20, 2007, as supplemented on September 12, October 8, and October 27, 2008.

Brief description of amendment request: The amendment request contained sensitive unclassified non-safeguards information. The amendments revised technical specification (TS) 3.3.1, “Reactor Trip System Instrumentation,” TS 3.3.2, “Engineered Safety Feature Actuation System Instrumentation,” TS 3.3.6, “Containment Purge and Exhaust Isolation Instrumentation,” TS 3.3.7, “Control Room Emergency Filtration/ Pressurization System Actuation Instrumentation,” and TS 3.3.8, “Penetration Room Filtration System Actuation Instrumentation” to adopt completion time, bypass test time, and surveillance requirement (SR) frequency changes approved by the Nuclear Regulatory Commission (NRC) in WCAP-14333-P-A, Rev.1, “Probabilistic Risk Analysis of the Reactor Protection System and Engineered Safety Feature Actuation System Test Times and Completion Times,” October 1998 and WCAP-15376-P-A, Rev.1, “Risk-Informed Assessment of the Reactor Trip System and Engineered Safety Feature Actuation System Surveillance Test Intervals and Reactor Trip Breaker Test and Completion Times,” March 2003. In addition, the amendments revised SR 3.3.1.8 to adopt surveillance frequency changes approved by the NRC in Industry/Technical Specification Task Force (TSTF) Standard Technical Specification (STS) Change Traveler 242, Rev.1, “Increase the Time to Perform a Channel Operational Test on Power Range and Intermediate Range Instruments.” Also, the amendments revised the completion times of limiting condition for operation 3.3.1, Condition F from 2 hours to 24 hours consistent with changes approved by the NRC in Industry/TSTF STS Change Traveler 246, Rev. 0, “Reactor Trip System Instrumentation, 3.3.1 Condition F Completion Time.” Finally, the amendments provided for minor editorial changes.

Date of Issuance: January 15, 2009.

Amendment Nos.: Unit 1—180; Unit 2—173.

Facility Operating License Nos. NPF-2 and NPF-8: The amendment revised the Facility Operating License and Technical Specifications.

Date of initial notice in Federal Register: July 8, 2008 (73 FR 39056). The supplements dated September 12, October 8, and October 27, 2008, provided clarifying information that did not change the scope of the December 20, 2007, application nor the initial proposed no significant hazards consideration determination.

The Commission's related evaluation of the amendments is contained in a safety evaluation dated January 15, 2009.

No significant hazards consideration comments received: No.

Southern Nuclear Operating Company, Inc., Docket Nos. 50-424 and 50-425, Vogtle Electric Generating Plant, Units 1 and 2, Burke County, Georgia

Date of application for amendments: August 12, 2008.

Brief description of amendments: The amendments revised the Facility Operating Licenses (FOLs) to delete Section 2.H of the Facility Operating Licenses, which require reporting of violations of the requirements in Section 2.C of the Facility Operating License.

Date of issuance: January 15, 2009.

Effective date: As of the date of issuance and shall be implemented within 60 days from the date of issuance.

Amendment Nos.: Unit 1—155; Unit 2—136.

Facility Operating License Nos. NPF-68 and NPF-81: Amendments revised the licenses.

Date of initial notice in Federal Register: October 7, 2008 (73 FR 58677). The Commission's related evaluation of the amendments is contained in a Safety Evaluation dated January 15, 2009.

No significant hazards consideration comments received: No.

STP Nuclear Operating Company, Docket Nos. 50-498 and 50-499, South Texas Project, Units 1 and 2, Matagorda County, Texas

Date of amendment request: January 28, 2008, as supplemented by letters dated July 28, September 25 and 30, and November 24, 2008.

Brief description of amendments: The current amendments revised Action 5 in Table 3.3-1, “Reactor Trip System Instrumentation,” of Technical Specification (TS) 3.3.1, “Reactor Trip Instrumentation,” into Action 5.a for one inoperable channel of extended range neutron flux instrumentation and Action 5.b for two inoperable channels of this instrumentation. The previous Amendment Nos. 187 (Unit 1) and 174 (Unit 2), issued October 16, 2008, revised (1) Action 5 in TS Table 3.3-1 for one inoperable channel of extended range neutron flux instrumentation and (2) Action c in TS 3.4.1.4.2, “Reactor Coolant System, Cold Shutdown—Loops Not Filled.” The current amendments complete the Nuclear Regulatory Commission staff's review of the application.

Date of issuance: January 28, 2009.

Effective date: As of the date of issuance and shall be implemented within 90 days of issuance.

Amendment Nos.: Unit 1—189; Unit 2—177.

Facility Operating License Nos. NPF-76 and NPF-80: The amendments revised the Facility Operating Licenses and Technical Specifications.

Date of initial notice in Federal Register: March 25, 2008 (73 FR 15788). The supplemental letters dated July 28 and September 25 and 30, and November 24, 2008, provided additional information that clarified the application, did not expand the scope of the application as originally noticed, and did not change the staff's original proposed no significant hazards consideration determination as published in the Federal Register.

The Commission's related evaluation of the amendments is contained in a Safety Evaluation dated January 28, 2009.

No significant hazards consideration comments received: No.

Union Electric Company, Docket No. 50-483, Callaway Plant, Unit 1, Callaway County, Missouri

Date of application for amendment: January 14, 2008, as supplemented by letters dated November 26 and December 17, 2008.

Brief description of amendment: The amendment modified the Technical Specification (TS) to establish more effective and appropriate action, surveillance, and administrative requirements related to ensuring the habitability of the control room envelope (CRE) in accordance with U.S. Nuclear Regulatory Commission (NRC)-approved TS Task Force (TSTF) Standard Technical Specification change traveler TSTF-448, Revision 3, “Control Room Habitability.” Specifically, the amendment modified TS 3.7.10, “Control Room Emergency Ventilation System (CREVS),” and established a CRE habitability program in TS Section 5.5, “Administrative Controls—Programs and Manuals.”

Date of issuance: January 27, 2009.

Effective date: As of its date of issuance and shall be implemented within 120 days from the date of issuance.

Amendment No.: 190.

Facility Operating License No. NPF-30: The amendment revised the Operating License and Technical Specifications.

Date of initial notice in Federal Register: October 21, 2008 (73 FR 62570). The supplemental letters dated November 26 and December 17, 2008, provided additional information that clarified the application, did not expand the scope of the application as originally noticed, and did not change the staff's original proposed no significant hazards consideration determination as published in the Federal Register.

The Commission's related evaluation of the amendment is contained in a Safety Evaluation dated January 27, 2009.

No significant hazards consideration comments received: No.

Notice of Issuance of Amendments to Facility Operating Licenses and Final Determination of No Significant Hazards Consideration and Opportunity for a Hearing (Exigent Public Announcement or Emergency Circumstances)

During the period since publication of the last biweekly notice, the Commission has issued the following amendments. The Commission has determined for each of these amendments that the application for the amendment complies with the standards and requirements of the Atomic Energy Act of 1954, as amended (the Act), and the Commission's rules and regulations. The Commission has made appropriate findings as required by the Act and the Commission's rules and regulations in 10 CFR Chapter I, which are set forth in the license amendment.

Because of exigent or emergency circumstances associated with the date the amendment was needed, there was not time for the Commission to publish, for public comment before issuance, its usual Notice of Consideration of Issuance of Amendment, Proposed No Significant Hazards Consideration Determination, and Opportunity for a Hearing.

For exigent circumstances, the Commission has either issued a Federal Register notice providing opportunity for public comment or has used local media to provide notice to the public in the area surrounding a licensee's facility of the licensee's application and of the Commission's proposed determination of no significant hazards consideration. The Commission has provided a reasonable opportunity for the public to comment, using its best efforts to make available to the public means of communication for the public to respond quickly, and in the case of telephone comments, the comments have been recorded or transcribed as appropriate and the licensee has been informed of the public comments.

In circumstances where failure to act in a timely way would have resulted, for example, in derating or shutdown of a nuclear power plant or in prevention of either resumption of operation or of increase in power output up to the plant's licensed power level, the Commission may not have had an opportunity to provide for public comment on its no significant hazards consideration determination. In such case, the license amendment has been issued without opportunity for comment. If there has been some time for public comment but less than 30 days, the Commission may provide an opportunity for public comment. If comments have been requested, it is so stated. In either event, the State has been consulted by telephone whenever possible.

Under its regulations, the Commission may issue and make an amendment immediately effective, notwithstanding the pendency before it of a request for a hearing from any person, in advance of the holding and completion of any required hearing, where it has determined that no significant hazards consideration is involved.

The Commission has applied the standards of 10 CFR 50.92 and has made a final determination that the amendment involves no significant hazards consideration. The basis for this determination is contained in the documents related to this action. Accordingly, the amendments have been issued and made effective as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.12(b) and has made a determination based on that assessment, it is so indicated.

For further details with respect to the action see (1) the application for amendment, (2) the amendment to Facility Operating License, and (3) the Commission's related letter, Safety Evaluation and/or Environmental Assessment, as indicated. All of these items are available for public inspection at the Commission's Public Document Room (PDR), located at One White Flint North, Public File Area 01F21, 11555 Rockville Pike (first floor), Rockville, Maryland. Publicly available records will be accessible from the Agencywide Documents Access and Management System's (ADAMS) Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr@nrc.gov.

The Commission is also offering an opportunity for a hearing with respect to the issuance of the amendment. Within 60 days after the date of publication of this notice, any person(s) whose interest may be affected by this action may file a request for a hearing and a petition to intervene with respect to issuance of the amendment to the subject facility operating license. Requests for a hearing and a petition for leave to intervene shall be filed in accordance with the Commission's “Rules of Practice for Domestic Licensing Proceedings” in 10 CFR Part 2. Interested person(s) should consult a current copy of 10 CFR 2.309, which is available at the Commission's PDR, located at One White Flint North, Public File Area 01F21, 11555 Rockville Pike (first floor), Rockville, Maryland, and electronically on the Internet at the NRC Web site, http://www.nrc.gov/reading-rm/doc-collections/cfr/. If there are problems in accessing the document, contact the PDR Reference staff at 1 (800) 397-4209, (301) 415-4737, or by e-mail to pdr@nrc.gov. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner intends to rely in proving the contention at the hearing. The petitioner must also provide references to those specific sources and documents of which the petitioner is aware and on which the petitioner intends to rely to establish those facts or expert opinion. The petition must include sufficient information to show that a genuine dispute exists with the applicant on a material issue of law or fact.¹ Contentions shall be limited to matters within the scope of the amendment under consideration. The contention must be one which, if proven, would entitle the petitioner to relief. A petitioner/requestor who fails to satisfy these requirements with respect to at least one contention will not be permitted to participate as a party.

¹ To the extent that the applications contain attachments and supporting documents that are not publicly available because they are asserted to contain safeguards or proprietary information, petitioners desiring access to this information should contact the applicant or applicant's counsel and discuss the need for a protective order.

Each contention shall be given a separate numeric or alpha designation within one of the following groups:

1. Technical—-primarily concerns/issues relating to technical and/or health and safety matters discussed or referenced in the applications.

2. Environmental—-primarily concerns/issues relating to matters discussed or referenced in the environmental analysis for the applications.

3. Miscellaneous—-does not fall into one of the categories outlined above.

As specified in 10 CFR 2.309, if two or more petitioners/requestors seek to co-sponsor a contention, the petitioners/requestors shall jointly designate a representative who shall have the authority to act for the petitioners/requestors with respect to that contention. If a petitioner/requestor seeks to adopt the contention of another sponsoring petitioner/requestor, the petitioner/requestor who seeks to adopt the contention must either agree that the sponsoring petitioner/requestor shall act as the representative with respect to that contention, or jointly designate with the sponsoring petitioner/requestor a representative who shall have the authority to act for the petitioners/requestors with respect to that contention.

Those permitted to intervene become parties to the proceeding, subject to any limitations in the order granting leave to intervene, and have the opportunity to participate fully in the conduct of the hearing. Since the Commission has made a final determination that the amendment involves no significant hazards consideration, if a hearing is requested, it will not stay the effectiveness of the amendment. Any hearing held would take place while the amendment is in effect.

All documents filed in NRC adjudicatory proceedings, including a request for hearing, a petition for leave to intervene, any motion or other document filed in the proceeding prior to the submission of a request for hearing or petition to intervene, and documents filed by interested governmental entities participating under 10 CFR 2.315(c), must be filed in accordance with the NRC E-Filing rule, which the NRC promulgated in August 28, 2007, (72 FR 49139). The E-Filing process requires participants to submit and serve adjudicatory documents over the internet or in some cases to mail copies on electronic storage media. Participants may not submit paper copies of their filings unless they seek a waiver in accordance with the procedures described below.

To comply with the procedural requirements of E-Filing, at least five (5) days prior to the filing deadline, the petitioner/requestor must contact the Office of the Secretary by e-mail at HEARINGDOCKET@NRC.GOV, or by calling (301) 415-1677, to request (1) a digital ID certificate, which allows the participant (or its counsel or representative) to digitally sign documents and access the E-Submittal server for any proceeding in which it is participating; and/or (2) creation of an electronic docket for the proceeding (even in instances in which the petitioner/requestor (or its counsel or representative) already holds an NRC-issued digital ID certificate). Each petitioner/ requestor will need to download the Workplace Forms Viewer ™ to access the Electronic Information Exchange (EIE), a component of the E-Filing system. The Workplace Forms Viewer ™ is free and is available at http://www.nrc.gov/site-help/e-submittals/install-viewer.html. Information about applying for a digital ID certificate is available on NRC's public Web site at http://www.nrc.gov/site-help/e-submittals/apply-certificates.html.

Once a petitioner/requestor has obtained a digital ID certificate, had a docket created, and downloaded the EIE viewer, it can then submit a request for hearing or petition for leave to intervene. Submissions should be in Portable Document Format (PDF) in accordance with NRC guidance available on the NRC public Web site at http://www.nrc.gov/site-help/e-submittals.html. A filing is considered complete at the time the filer submits its documents through EIE. To be timely, an electronic filing must be submitted to the EIE system no later than 11:59 p.m. Eastern Time on the due date. Upon receipt of a transmission, the E-Filing system time-stamps the document and sends the submitter an e-mail notice confirming receipt of the document. The EIE system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically may seek assistance through the “Contact Us” link located on the NRC Web site at http://www.nrc.gov/site-help/e-submittals.html or by calling the NRC electronic filing Help Desk, which is available between 8 a.m. and 8 p.m., Eastern Time, Monday through Friday. The electronic filing Help Desk can be contacted by telephone at 1-866-672-7640 or by e-mail at MSHD.Resource@nrc.gov.

Participants who believe that they have a good cause for not submitting documents electronically must file a motion, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville, Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service.

Non-timely requests and/or petitions and contentions will not be entertained absent a determination by the Commission, the presiding officer, or the Atomic Safety and Licensing Board that the petition and/or request should be granted and/or the contentions should be admitted, based on a balancing of the factors specified in 10 CFR 2.309(c)(1)(i)-(viii).

Documents submitted in adjudicatory proceedings will appear in NRC's electronic hearing docket which is available to the public at http://ehd.nrc.gov/EHD_Proceeding/home.asp, unless excluded pursuant to an order of the Commission, an Atomic Safety and Licensing Board, or a Presiding Officer. Participants are requested not to include personal privacy information, such as social security numbers, home addresses, or home phone numbers in their filings. With respect to copyrighted works, except for limited excerpts that serve the purpose of the adjudicatory filings and would constitute a Fair Use application, participants are requested not to include copyrighted materials in their submission.

STP Nuclear Operating Company, Docket No. 50-499, South Texas Project, Unit 2, Matagorda County, Texas

Date of amendment request: December 19, 2008, as supplemented by letter dated January 7, 2009.

Description of amendment request: The amendment is requested to extend the Allowed Outage (AOT) Time for Technical Specification 3.7.1.7, “Main Feedwater System.” This AOT extension is requested from the current 4 hours to 24 hours, only to facilitate repair to the South Texas Project (STP), Unit 2, Train D Main Feedwater Isolation Valve, which is degraded due to a leak in its pneumatic actuator.

Date of issuance: January 16, 2009.

Effective date: As of the date of issuance and shall be implemented prior to the start of the STP, Unit 2, Train D Main Feedwater Isolation Valve repairs.

Amendment No.: 176.

Facility Operating License No. NPF-80: The amendment revised the Facility Operating License and Technical Specifications.

Public comments requested as to proposed no significant hazards consideration (NSHC): Yes (73 FR 80437; December 31, 2008). The supplemental letter dated January 7, 2009, provided additional information that clarified the application, did not expand the scope of the application as originally noticed, and did not change the staff's original proposed no significant hazards consideration determination. The notice provided an opportunity to submit comments on the Commission's proposed NSHC determination. No comments have been received. The notice also provided an opportunity to request a hearing by March 2, 2009, but indicated that if the Commission makes a final NSHC determination, any such hearing would take place after issuance of the amendment.

The Commission's related evaluation of the amendment, finding of exigent circumstances, state consultation, and final NSHC determination are contained in a safety evaluation dated January 16, 2009.

Attorney for licensee: A. H. Gutterman, Esq., Morgan, Lewis & Bockius, 1111 Pennsylvania Avenue, NW., Washington, DC 20004.

NRC Branch Chief: Michael T. Markley.

Dated at Rockville, Maryland, this 30th day of January 2009.
For the Nuclear Regulatory Commission.
Joseph G. Giitter,
Director, Division of Operating Reactor Licensing, Office of Nuclear Reactor Regulation.

[FR Doc. E9-2553 Filed 2-9-09; 8:45 am]

BILLING CODE 7590-01-P